DEPARTMENT OF COMMERCE

National Oceanic and Atmospheric Administration

Partnerships in the Provision of Environmental Information

AGENCY: National Oceanic and Atmospheric Administration, Department of Commerce.

ACTION: Notice of availability.

SUMMARY: The National Oceanic and Atmospheric Administration (NOAA) has adopted a policy regarding the provision of information products and services to the public, which implements relevant provisons of the Paperwork Reduction Act of 1995 (44 U.S.C. part 35) and Office of Management and Budget Circular No. A-130, “Management of Federal Information Resources.” This policy will strengthen the existing partnership between government, academia and the private sector, which provides the nation with high quality environmental information.

ADDRESSES: The policy is available electronically at http://www.nws.noaa.gov/partnershippolicy. Requests for hard copies should be sent to Room 11404, 1325 East-West Highway, Silver Spring, MD 20910-3283.

FOR FURTHER INFORMATION CONTACT: Peter Weiss 301-713-0258. peter.weiss@noaa.gov.

Dated: November 19, 2004.
John E. Jones, Jr.,
Deputy Assistant Administrator for Weather Services.

[FR Doc. 04-26419 Filed 11-30-04; 8:45 am]

BILLING CODE 3510-KE-P